ENVIRONMENTAL PROTECTION AGENCY

[FRL-9900-60-OAR]

Notice of Public Meeting of the Interagency Steering Committee on Radiation Standards

AGENCY: Environmental Protection Agency (EPA).

ACTION: Notice of public meeting.

SUMMARY: The Environmental Protection Agency (EPA) will host a meeting of the Interagency Steering Committee on Radiation Standards (ISCORS) on September 18, 2013 in Washington, DC. The purpose of ISCORS is to foster early resolution and coordination of regulatory issues associated with radiation standards. Member agencies include: EPA; the Nuclear Regulatory Commission; and Departments of Energy; Defense; Transportation; Homeland Security; Health and Human Services; and Labor's Occupational Safety and Health Administration. Observer agencies include: the Office of Science and Technology Policy, Office of Management and Budget, Defense Nuclear Facilities Safety Board, as well as state representatives from Arizona and Pennsylvania. ISCORS maintains several objectives: (1) Facilitate a consensus on allowable levels of radiation risk to the public and workers; (2) promote consistent and scientifically sound risk assessment and risk management approaches in setting and implementing standards for occupational and public protection from ionizing radiation; (3) promote completeness and coherence of Federal standards for radiation protection; and (4) identify interagency radiation protection issues and coordinate their resolution. ISCORS meetings include presentations by Subcommittee Chairs and discussions of current radiation protection issues. Committee meetings normally involve pre-decisional intra-governmental discussions and, as such, are normally not open for observation by members of the public or media. This particular ISCORS meeting is open to all interested members of the public. Time will be reserved on the agenda for members of the public to provide comments.

Please Note: A discussion on the draft International Atomic Energy Agency (IAEA) Safety Requirements document, DS457, Preparedness and Response for a Nuclear or Radiological Emergency, is scheduled for this meeting and is intended to provide an overview and invite viewpoints on the draft document during the IAEA Member State review process. The U.S. government, as a member state of the IAEA, is afforded an opportunity to provide comments. The draft document is available at: http://www-ns.iaea.org/downloads/standards/drafts/ds457.pdf. The IAEA Safety Standards are not binding on the U.S, and the standards are used in different ways in different countries. The U.S. does not routinely adopt IAEA Safety Standards, but has considered the safety standards as a useful point of reference in the development of proposals under the Administrative Procedure Act (APA) for changes to regulations or guidance in the United States. Members of the public who attend the ISCORS meeting will also be afforded the opportunity to provide any viewpoints that they might wish the U.S. government to consider in the development of comments. In light of the importance of this draft document, particularly in light of the events at the Fukushima Daiichi nuclear power station, this meeting provides an opportunity for inputs, but is not considered as a formal public comment. Any future actions by an agency of the U.S. government to consider use of the IAEA document, when finalized, will be subject to the normal APA process for notice and comment. Presentations of previous ISCORS public meetings are available at the ISCORS Web site, www.iscors.org. The final meeting agenda will be posted on the Web site shortly before the meeting.

DATES: The meeting will be held on September 18, 2013, from 1:00 p.m. to 4:30 p.m.

ADDRESSES: The ISCORS meeting will be held in Room 152 at the EPA building located at 1310 L Street NW., in Washington, DC. Attendees are required to present a photo ID such as a government agency photo identification badge or valid driver's license. Visitors and their belongings will be screened by EPA security guards. Visitors must sign the visitors log at the security desk and will be issued a visitors badge by the security guards to gain access to the meeting.

FOR FURTHER INFORMATION CONTACT: Marisa Thornton, Radiation Protection Division, Office of Radiation and Indoor Air, Mailcode 6608J, U.S. Environmental Protection Agency, 1200 Pennsylvania Avenue NW., Washington, DC 20460; telephone 202-343-9237; fax 202-343-2304; email thornton.marisa@epa.gov.

SUPPLEMENTARY INFORMATION: Pay parking is available for visitors at the Colonial parking garage next door in the Franklin Square building. Visitors can also ride metro to the McPherson Square (Blue and Orange Line) station and leave the station via the 14th Street exit. Walk two blocks north on 14th Street to L Street. Turn right at the corner of 14th and L Streets. EPA's 1310 L Street building is on the right towards the end of the block. Visit the ISCORS Web site, www.iscors.org for more detailed information.

Dated: August 21, 2013.
Michael P. Flynn,
Director, Office of Radiation and Indoor Air.

[FR Doc. 2013-21365 Filed 8-30-13; 8:45 am]

BILLING CODE 6560-50-P